DEPARTMENT OF TRANSPORTATION

Federal Aviation Administration

14 CFR Part 71

[Docket No. FAA-2024-2559; Airspace Docket No. 24-AEA-11]

RIN 2120-AA66

Amendment of Class D and Class E Airspace; Morgantown, WV: Withdrawal

AGENCY: Federal Aviation Administration (FAA), DOT.

ACTION: Proposed rule, withdrawal.

SUMMARY: This action withdraws the notice of proposed rulemaking (NPRM) published in the Federal Register on June 30, 2025, proposing to amend Class D and Class E airspace at Morgantown, WV. The FAA has determined that withdrawal of that NPRM is warranted as new airspace data have been received which significantly change the requirements for the proposed airspace. FAA expects to publish a new NPRM to amend the Class D and Class E airspace at Morgantown, WV, after assessing the new data.

DATES: The proposed rule published in the Federal Register on June 30, 2025 (90 FR 27826) is withdrawn as of August 20, 2025.

FOR FURTHER INFORMATION CONTACT: Rebecca Shelby, Federal Aviation Administration, Operations Support Group, Central Service Center, 10101 Hillwood Parkway, Fort Worth, TX 76177; telephone (817) 222-5857.

SUPPLEMENTARY INFORMATION:

History

An NPRM was published in the Federal Register on June 30, 2025 (90 FR 27826) ¹ under Docket No. FAA-2024-2559 to amend 14 CFR part 71 by modifying the Class D and Class E surface airspace, and Class E airspace extending upward from 700 feet above the surface at Morgantown Municipal Airport-Walter L. Bill Hart Field, Morgantown, WV. Subsequent to publication, new airspace data was received changing the airspace requirements. Therefore, the FAA is withdrawing the NPRM, and expects to publish a new NPRM after fully evaluating the new data to amend the Class D and Class E surface airspace, and Class E airspace extending upward from 700 feet above the surface at Morgantown Municipal Airport-Walter L. Bill Hart Field, Morgantown, WV, to support the new instrument procedures being developed.

¹ The FAA had published an NPRM on March 31, 2025 (90 FR 14221) under the same airspace number and FAA docket number, which was subsequently withdrawn on June 9, 2025 (90 FR 24232), prior to the June 30, 2025, publication of the second NPRM that is being withdrawn by the current action.

List of Subjects in 14 CFR Part 71

Airspace, Incorporation by reference, Navigation (air).

The Withdrawal

Accordingly, pursuant to the authority delegated to me, the NPRM for Docket No. FAA-2025-05492, Airspace Docket No. 24-AEA-11, as published in the Federal Register of June 30, 2025 (90 FR 27826) is hereby withdrawn.

Authority: 49 U.S.C. 106(f), 106(g); 40103, 40113, 40120; E.O. 10854; 24 FR 9565, 3 CFR, 1959-1963 Comp., p. 389.

Issued in Fort Worth, TX, on August 12, 2025.
Dallas W. Lantz,
Acting Manager, Operations Support Group, ATO Central Service Center.

[FR Doc. 2025-15886 Filed 8-19-25; 8:45 am]

BILLING CODE 4910-13-P